DEPARTMENT OF TRANSPORTATION

Federal Aviation Administration

14 CFR Chapter I

[Docket No. FAA-2012-0658]

Proposed Policy Clarification for the Registration of Aircraft to U.S. Citizen Trustees in Situations Involving Non-U.S. Citizen Trustors and Beneficiaries

AGENCY: Federal Aviation Administration, DOT.

ACTION: Proposed Policy; Availability of Documents for Inspection and Extension of Time in which to Submit Written Comments.

SUMMARY: The FAA is extending the comment period on its proposed policy regarding the registration of aircraft to U.S. Citizen Trustees in situations involving Non-U.S. citizen trustors and beneficiaries.

DATES: The FAA is extending the comment period to August 17, 2012.

FOR FURTHER INFORMATION CONTACT: LaDeana Peden at 405-954-3296, Office of Aeronautical Center Counsel, Federal Aviation Administration.

SUPPLEMENTARY INFORMATION: Incident to a public meeting held by the Federal Aviation Administration (FAA) on Wednesday, June 6, 2012, in Oklahoma City, Oklahoma, concerning aircraft registration by owner trustees for non-U.S. citizen beneficiaries, interested parties have submitted written comments to FAA. Those comments, as well as the Notice of Public Meeting and FAA slide presentation may be viewed at the Office of Chief Counsel's FAA Web site located at http://www.faa.gov/about/office_org/headquarters_offices/agc/. The comment period is hereby extended through Friday, August 17, 2012, and may be submitted via email to ladeana.peden@faa.gov.

As part of its review of non-citizen trusts, the FAA published a notice of its proposed policy clarification on February 9, 2012 (77 FR 6694) on use of non-citizen trusts to register aircraft in the United States. After the FAA discusses the legal issues, the FAA will suggest which provisions in trust agreements may need to be changed and it will suggest language that would enable the FAA to facilitate the registration of aircraft in the future that are owned in trust. The suggested language and the reasons for the suggested language, if adopted as the FAA's final policy on this matter, will guide the FAA in the future in determining eligibility for registering non-U.S. citizen trusts.

Authority: 49 U.S.C. 106g, 40113, 44701.

Issued in Oklahoma City, Oklahoma, on June 13, 2012.
Joseph R. Standell,
Aeronautical Center Counsel.

[FR Doc. 2012-15339 Filed 6-25-12; 8:45 am]

BILLING CODE 4910-13-P